DEPARTMENT OF ENERGY

Federal Energy Regulatory Commission

Combined Notice of Filings #1

Take notice that the Commission received the following electric corporate filings:

Docket Numbers: EC25-97-000.

Applicants: Beaver Falls, L.L.C., Fairless Energy, L.L.C., Garrison Energy Center LLC, Greenleaf Energy Unit 2 LLC, Hazleton Generation LLC, Manchester Street, L.L.C., Syracuse, L.L.C., Vistra Corp.

Description: Joint Application for Authorization Under Section 203 of the Federal Power Act of Beaver Falls, L.L.C., et al.

Filed Date: 6/6/25.

Accession Number: 20250606-5249.

Comment Date: 5 p.m. ET 8/5/25.

Take notice that the Commission received the following electric rate filings:

Docket Numbers: ER22-2303-002.

Applicants: Black Hills Power, Inc.

Description: Compliance filing: Amended Order No. 881 Compliance Filing to be effective 9/1/2026.

Filed Date: 6/20/25.

Accession Number: 20250620-5256.

Comment Date: 5 p.m. ET 7/11/25.

Docket Numbers: ER22-2306-002.

Applicants: Black Hills Colorado Electric, LLC.

Description: Compliance filing: Amended Order No. 881 Compliance Filing to be effective 9/1/2026.

Filed Date: 6/20/25.

Accession Number: 20250620-5238.

Comment Date: 5 p.m. ET 7/11/25.

Docket Numbers: ER22-2307-002.

Applicants: Cheyenne Light, Fuel and Power Company.

Description: Compliance filing: Amended Order No. 881 Compliance Filing to be effective 9/1/2026.

Filed Date: 6/20/25.

Accession Number: 20250620-5259.

Comment Date: 5 p.m. ET 7/11/25.

Docket Numbers: ER24-2567-003.

Applicants: Northern States Power Company, a Minnesota corporation.

Description: Tariff Amendment: 2025-06-19 CapX Brookings OMA—537—Errata to be effective 6/21/2024.

Filed Date: 6/20/25.

Accession Number: 20250620-5033.

Comment Date: 5 p.m. ET 7/11/25.

Docket Numbers: ER25-2025-001.

Applicants: Great Basin Transmission, LLC.

Description: Tariff Amendment: GBT Amended Tariff Filing to be effective 8/20/2025.

Filed Date: 6/20/25.

Accession Number: 20250620-5045.

Comment Date: 5 p.m. ET 7/11/25.

Docket Numbers: ER25-2544-000.

Applicants: Puget Sound Energy, Inc.

Description: 205(d) Rate Filing: BP Products North America—NITSA, NOA, IA to be effective 6/1/2025.

Filed Date: 6/18/25.

Accession Number: 20250618-5239.

Comment Date: 5 p.m. ET 7/9/25.

Docket Numbers: ER25-2545-000.

Applicants: PJM Interconnection, L.L.C.

Description: Tariff Amendment: Notice of Cancellation of WMPA, SA No. 6107; Queue No. AG1-318 to be effective 7/29/2025.

Filed Date: 6/18/25.

Accession Number: 20250618-5248.

Comment Date: 5 p.m. ET 7/9/25.

Docket Numbers: ER25-2546-000.

Applicants: Public Service Company of Colorado.

Description: 205(d) Rate Filing: 2025-06-19—PSC-HLYCRS-T-2023-3-SISA-781-0.0.0 to be effective 6/5/2025.

Filed Date: 6/20/25.

Accession Number: 20250620-5020.

Comment Date: 5 p.m. ET 7/11/25.

Docket Numbers: ER25-2547-000.

Applicants: Public Service Company of Colorado.

Description: 205(d) Rate Filing: 2025-06-19—WAPA—Att K1 SISA—Mt. Elbert Daytime Pum—882 0.0.0 to be effective 6/10/2025.

Filed Date: 6/20/25.

Accession Number: 20250620-5021.

Comment Date: 5 p.m. ET 7/11/25.

Docket Numbers: ER25-2548-000.

Applicants: McFarland Solar A, LLC.

Description: 205(d) Rate Filing: Second SFA amendment 2025 to be effective 6/23/2025.

Filed Date: 6/20/25.

Accession Number: 20250620-5043.

Comment Date: 5 p.m. ET 7/11/25.

Docket Numbers: ER25-2549-000.

Applicants: McFarland Solar A, LLC.

Description: 205(d) Rate Filing: Second LGIA Co-Tenancy Agreement 2025 to be effective 6/23/2025.

Filed Date: 6/20/25.

Accession Number: 20250620-5044.

Comment Date: 5 p.m. ET 7/11/25.

Docket Numbers: ER25-2550-000.

Applicants: McFarland Solar B, LLC.

Description: 205(d) Rate Filing: COC Shared Facilities Agreement 2025 to be effective 6/23/2025.

Filed Date: 6/20/25.

Accession Number: 20250620-5046.

Comment Date: 5 p.m. ET 7/11/25.

Docket Numbers: ER25-2551-000.

Applicants: McFarland Solar B, LLC.

Description: 205(d) Rate Filing: COC LGIA Co-Tenancy 2025 to be effective 6/23/2025.

Filed Date: 6/20/25.

Accession Number: 20250620-5047.

Comment Date: 5 p.m. ET 7/11/25.

Docket Numbers: ER25-2552-000.

Applicants: McFarland Storage C, LLC.

Description: 205(d) Rate Filing: COC Shared Facilities Agreement 2025 to be effective 6/23/2025.

Filed Date: 6/20/25.

Accession Number: 20250620-5048.

Comment Date: 5 p.m. ET 7/11/25.

Docket Numbers: ER25-2553-000.

Applicants: McFarland Storage C, LLC.

Description: 205(d) Rate Filing: COC LGIA Co-Tenancy 2025 to be effective 6/23/2025.

Filed Date: 6/20/25.

Accession Number: 20250620-5049.

Comment Date: 5 p.m. ET 7/11/25.

Docket Numbers: ER25-2554-000.

Applicants: PJM Interconnection, L.L.C.

Description: 205(d) Rate Filing: Amendment to ISA, Service Agreement No. 6116; Queue Position No. AE1-129 to be effective 8/20/2025.

Filed Date: 6/20/25.

Accession Number: 20250620-5094.

Comment Date: 5 p.m. ET 7/11/25.

Docket Numbers: ER25-2555-000.

Applicants: PJM Interconnection, L.L.C.

Description: 205(d) Rate Filing: NSA, Original Service Agreement No. 7707; Queue No. AE2-074 to be effective 8/20/2025.

Filed Date: 6/20/25.

Accession Number: 20250620-5151.

Comment Date: 5 p.m. ET 7/11/25.

Docket Numbers: ER25-2556-000.

Applicants: PJM Interconnection, L.L.C.

Description: Tariff Amendment: Notice of Cancellation of ISA, SA No. 7200; Queue No. AF1-114 to be effective 2/10/2025.

Filed Date: 6/20/25.

Accession Number: 20250620-5217.

Comment Date: 5 p.m. ET 7/11/25.

Docket Numbers: ER25-2557-000.

Applicants: Dunns Bridge Energy Storage, LLC.

Description: Tariff Amendment: Notice of Cancellation of Market-Based Rate Tariff to be effective 6/21/2025.

Filed Date: 6/20/25.

Accession Number: 20250620-5252.

Comment Date: 5 p.m. ET 7/11/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: June 20, 2025.
Debbie-Anne A. Reese,
Secretary.

[FR Doc. 2025-11677 Filed 6-24-25; 8:45 am]

BILLING CODE 6717-01-P